DEPARTMENT OF ENERGY

Federal Energy Regulatory Commission

Combined Notice of Filings #1

Take notice that the Commission received the following electric corporate filings:

Docket Numbers: EC19-104-000.

Applicants: Hartree Partners, LP, Griffith Energy LLC, Cogen Technologies Linden Venture, L.P., East Coast Power Linden Holding, L.L.C., Footprint Power Salem Harbor Development, Brookfield Asset Management Inc.

Description: Response of the Applicants to August 21, 2019 letter requesting additional information.

Filed Date: 8/30/19.

Accession Number: 20190830-5171.

Comments Due: 5 p.m. ET 9/20/19.

Docket Numbers: EC19-130-000.

Applicants: GP Energy Management LLC, Power Supply Services LLC.

Description: Application for Authorization Under Section 203 of the Federal Power Act, et al. of GP Energy Management LLC, et al.

Filed Date: 8/30/19.

Accession Number: 20190830-5109.

Comments Due: 5 p.m. ET 9/20/19.

Docket Numbers: EC19-131-000.

Applicants: NC 102 Project LLC.

Description: Application for Authorization Under Section 203 of the Federal Power Act, et al. of NC 102 Project LLC.

Filed Date: 8/30/19.

Accession Number: 20190830-5229.

Comments Due: 5 p.m. ET 9/20/19.

Take notice that the Commission received the following electric rate filings:

Docket Numbers: ER19-1898-001.

Applicants: Southwest Power Pool, Inc.

Description: Compliance filing: Notice of Effective Date in ER19-1898—Revisions to Enhance MCR Market Design to be effective N/A.

Filed Date: 8/30/19.

Accession Number: 20190830-5010.

Comments Due: 5 p.m. ET 9/20/19.

Docket Numbers: ER19-2314-000.

Applicants: MidAmerican Central California Transco, LLC.

Description: Response of MidAmerican Energy Company to August 27, 2019 letter requesting additional information.

Filed Date: 8/30/19.

Accession Number: 20190830-5243.

Comments Due: 5 p.m. ET 9/13/19.

Docket Numbers: ER19-2709-000.

Applicants: Pacific Gas and Electric Company.

Description: Tariff Cancellation: Termination of CCSF Hunters Point IA & WDT SA (SA 36) to be effective 8/31/2019.

Filed Date: 8/30/19.

Accession Number: 20190830-5000.

Comments Due: 5 p.m. ET 9/20/19.

Docket Numbers: ER19-2710-000.

Applicants: Pacific Gas and Electric Company.

Description: § 205(d) Rate Filing: Amendment to add two Hunters Point Projects to CCSF WDT w/rate increase (SA 275) to be effective 9/1/2019.

Filed Date: 8/30/19.

Accession Number: 20190830-5001.

Comments Due: 5 p.m. ET 9/20/19.

Docket Numbers: ER19-2711-000.

Applicants: Midcontinent Independent System Operator, Inc.

Description: § 205(d) Rate Filing: 2019-08-30_SA 2884 OTP-Crowned Ridge 2nd Rev GIA (G736 J442) to be effective 8/9/2019.

Filed Date: 8/30/19.

Accession Number: 20190830-5007.

Comments Due: 5 p.m. ET 9/20/19.

Docket Numbers: ER19-2712-000.

Applicants: Dominion Energy South Carolina, Inc.

Description: Compliance filing: Rate Schedule No. 212 Compliance filing to be effective 9/8/2019.

Filed Date: 8/30/19.

Accession Number: 20190830-5063.

Comments Due: 5 p.m. ET 9/20/19.

Docket Numbers: ER19-2713-000.

Applicants: Midcontinent Independent System Operator, Inc.

Description: § 205(d) Rate Filing: 2019-08-30_ELMP III Tariff revisions to include Day-Ahead committed FSR to be effective 11/1/2019.

Filed Date: 8/30/19.

Accession Number: 20190830-5077.

Comments Due: 5 p.m. ET 9/20/19.

Docket Numbers: ER19-2714-000.

Applicants: Virginia Electric and Power Company, PJM Interconnection, L.L.C.

Description: § 205(d) Rate Filing: Dominion submits revisions to OATT, Att. H-16A re: Allegheny Generating Company to be effective 12/31/9998.

Filed Date: 8/30/19.

Accession Number: 20190830-5094.

Comments Due: 5 p.m. ET 9/20/19.

Docket Numbers: ER19-2715-000.

Applicants: West Penn Power Company, PJM Interconnection, L.L.C.

Description: § 205(d) Rate Filing: West Penn Power Company submits OIA SA No. 4976 to be effective 10/29/2019.

Filed Date: 8/30/19.

Accession Number: 20190830-5141.

Comments Due: 5 p.m. ET 9/20/19.

Docket Numbers: ER19-2716-000.

Applicants: Madison BTM, LLC.

Description: Baseline eTariff Filing: Madison BTM, LLC Initial MBR Application to be effective 11/1/2019.

Filed Date: 8/30/19.

Accession Number: 20190830-5142.

Comments Due: 5 p.m. ET 9/20/19.

Docket Numbers: ER19-2717-000.

Applicants: Madison ESS, LLC.

Description: Baseline eTariff Filing: Madison ESS Initial MBR Application to be effective 11/1/2019.

Filed Date: 8/30/19.

Accession Number: 20190830-5143.

Comments Due: 5 p.m. ET 9/20/19.

Docket Numbers: ER19-2718-000.

Applicants: 527 Energy.

Description: Baseline eTariff Filing: 527 Energy Inc. Initial MBR Application to be effective 9/6/2019.

Filed Date: 8/30/19.

Accession Number: 20190830-5144.

Comments Due: 5 p.m. ET 9/20/19.

Docket Numbers: ER19-2719-000.

Applicants: Mid-Atlantic Interstate Transmission, LL, PJM Interconnection, L.L.C.

Description: § 205(d) Rate Filing: MAIT submits OIA SA No. 4578 to be effective 10/29/2019.

Filed Date: 8/30/19.

Accession Number: 20190830-5178.

Comments Due: 5 p.m. ET 9/20/19.

Docket Numbers: ER19-2720-000.

Applicants: Kentucky Utilities Company.

Description: § 205(d) Rate Filing: Bardstown RS 185 Nicholasville RS 157 SEPA Amendment to be effective 12/1/2019.

Filed Date: 8/30/19.

Accession Number: 20190830-5179.

Comments Due: 5 p.m. ET 9/20/19.

Docket Numbers: ER19-2721-000.

Applicants: Virginia Electric and Power Company, The Potomac Edison Company, Monongahela Power Company, PJM Interconnection, L.L.C.

Description: § 205(d) Rate Filing: Dominion, Potomac and Monongahela submit Interconnection Agreement SA No. 4874 to be effective 12/31/9998.

Filed Date: 8/30/19.

Accession Number: 20190830-5181.

Comments Due: 5 p.m. ET 9/20/19.

Docket Numbers: ER19-2722-000.

Applicants: PJM Interconnection, L.L.C.

Description: Compliance filing: Fast-Start Compliance Docket No. EL18-34 to be effective 12/31/9998.

Filed Date: 8/30/19.

Accession Number: 20190830-5184.

Comments Due: 5 p.m. ET 9/20/19.

Docket Numbers: ER19-2723-000.

Applicants: Midcontinent Independent System Operator, Inc.

Description: § 205(d) Rate Filing: 2019-08-30_SA 3344 ATXI-TG High Prairie GIA (J541) to be effective 8/16/2019.

Filed Date: 8/30/19.

Accession Number: 20190830-5198.

Comments Due: 5 p.m. ET 9/20/19.

Docket Numbers: ER19-2724-000.

Applicants: New England Power Pool Participants Committee.

Description: § 205(d) Rate Filing: Sep 2019 Membership Filing to be effective 9/1/2019.

Filed Date: 8/30/19.

Accession Number: 20190830-5200.

Comments Due: 5 p.m. ET 9/20/19.

Docket Numbers: ER19-2725-000.

Applicants: Idaho Power Company.

Description: § 205(d) Rate Filing: SA 397—Scoville Use of Facilities Agreement between IPC, PAC, and DOE to be effective 10/29/2019.

Filed Date: 8/30/19.

Accession Number: 20190830-5254.

Comments Due: 5 p.m. ET 9/20/19.

Take notice that the Commission received the following public utility holding company filings:

Docket Numbers: PH19-15-000.

Applicants: PSP FL USA LLC.

Description: PSP FL USA LLC submits FERC 65-A Exemption Notification.

Filed Date: 8/29/19.

Accession Number: 20190829-5162.

Comments Due: 5 p.m. ET 9/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2019.
Nathaniel J. Davis, Sr.,
Deputy Secretary.

[FR Doc. 2019-19273 Filed 9-5-19; 8:45 am]

BILLING CODE 6717-01-P